DEPARTMENT OF THE TREASURY

Agency Information Collection Activities; Proposed Collection; Comment Request; Generic Clearance for Meaningful Access Information Collections

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before February 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: Title: Generic Clearance for Meaningful Access Information Collections.

OMB Control Number: 1520-0009.

Type of Review: Extension of a currently approved collection.

Description: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury . . . .”

In compliance with the court's order, BEP intends to meet with blind and visually impaired persons and request their feedback about tactile features that BEP is considering for possible incorporation into the next U.S. paper currency redesign. BEP employees will attend national conventions and conferences for disabled persons, as well as focus groups and other meetings. At those gatherings, BEP employees will invite blind and visually impaired persons to provide feedback about certain tactile features being considered for inclusion in future United States currency paper designs. In the past BEP contracted with specialists in the field of tactile acuity to develop a methodology for collecting the feedback. This same or substantially similar methodology will be used to continue this information collection.

Over the next three years, the BEP anticipates undertaking a variety of new information collection activities related to BEP's continued efforts to provide meaningful access to U.S. paper currency for blind and visually impaired persons. Following standard OMB requirements, for each information collection that BEP proposes to undertake under this generic clearance, the OMB will be notified at least two weeks in advance and provided with a copy of the information collection instrument along with supportive materials. The BEP will only undertake a new collection if the OMB does not object to the BEP's proposal.

Form: None.

Affected Public: Individuals and households, Businesses and other for-profits, Not-for-profit Institutions.

Estimated Number of Respondents: 650.

Frequency of Response: On occasion.

Estimated Total Number of Annual Responses: 650.

Estimated Time per Response: 60 minutes.

Estimated Total Annual Burden Hours: 650 hours.

Authority: 44 U.S.C. 3501 et seq.

Dated: January 10, 2022.
Molly Stasko,
Treasury PRA Clearance Officer.

[FR Doc. 2022-00602 Filed 1-12-22; 8:45 am]

BILLING CODE 4840-01-P